DEPARTMENT OF STATE

[Public Notice 4091]

United States—Egypt Science and Technology Joint Board; Public Announcement of a Science and Technology Program for Competitive Grants To Support Junior Scientist Development Visits by U.S. and Egyptian Scientists

August 11, 2002.

AGENCY: Department of State.

ACTION: Notice.

EFFECTIVE DATE: August 11, 2002.

FOR FURTHER INFORMATION, CONTACT: Joan Mahoney, Program Administrator, U.S.—Egypt Science and Technology Grants Program, U.S. Embassy, Cairo/ECPO, Unit 64900, Box 6, APO AE 09839-4900; phone: 011-(20-2) 797-2925; fax: 011-(20-2) 797-3150; e-mail: mahoneyjm@state.gov..

The 2002 Program guidelines for Junior Scientist Development visits will be available starting August 11, 2002 on the Joint Board web site: http://www.usembassy.egnet.net/usegypt.joint-st.htm.

SUPPLEMENTARY INFORMATION: Authority: This program is established under 22 U.S.C. 2656d and the Agreement for Scientific and Technological Cooperation between the Government of the United States of America and the Government of the Arab Republic of Egypt.

A solicitation for this program will begin November 1, 2002. This program will provide modest grants for successfully competitive proposals for development visits by Junior American Scientists to Egypt; and Junior Egyptian Scientists to the United States. Applicants must be scientists who have received their PhD within the past ten years. Proposals considered for funding must be postmarked by December 13, 2002. All proposals, which fully meet the submission requirements, will be considered; however, special consideration will be given to proposals in the areas of Biotechnology, Standards and Metrology, Environmental Technologies, Energy, Manufacturing Technologies and Information Technology. More information on these priorities and copies of the Program Announcement/Application may be obtained request.

Dated: July 31, 2002.
Kay Anske,
Director, Office of Science and Technology Cooperation, Bureau of Oceans and International Environmental and Scientific Affairs, and, Chair, U.S.-Egypt S&T Joint Board, Department of State.

[FR Doc. 02-19839 Filed 8-5-02; 8:45 am]

BILLING CODE 4710-09-P